DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of a meeting of the Marine Protected Areas Federal Advisory Committee (Committee) in Arlington, Virginia.

DATES: The meeting will be held Tuesday, April 24, from 8:30 a.m. to 5 p.m., Wednesday, April 25, from 8 a.m. to 5 p.m., and Thursday, April 26, from 8 a.m. to 5 p.m. These times and the agenda topics described below are subject to change. Refer to the web page listed below for the most up-to-date meeting agenda.

ADDRESSES: The meeting will be held at the National Science Foundation, Room 555, 4121 Wilson Boulevard, Arlington, Virginia 22230.

FOR FURTHER INFORMATION CONTACT: Lauren Wenzel, Designated Federal Officer, MPA FAC, National Marine Protected Areas Center, 1305 East West Highway, Silver Spring, Maryland 20910. (Phone: 301-713-3100 x136, Fax: 301-713-3110); e-mail lauren.wenzel@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158 on MPAs. The meeting will be open to public participation with a one hour time period set aside from 4 p.m. to 5 p.m. on Tuesday, April 24, 2007, and one hour set aside from 8:10 a.m. to 9:10 a.m. on Thursday, April 26, 2007. In general, each individual or group will be limited to a total time of five (5) minutes. Copies of written statements should be submitted to the Designated Federal Official by April 20, 2007.

Matters to be Considered: The Committee will work in Subcommittees and as a full Committee to develop recommendations for the Department of Commerce and the Department of the Interior on the regional coordination of the national system of marine protected areas; incentives and implementation; and natural and social science needed to support the national system. The Agenda is subject to change, and the latest version will be posted at http://www.mpa.gov.

Dated: March 5, 2007.
David M. Kennedy,
Director, Office of Ocean and Coastal Resource Management.

[FR Doc. 07-1151 Filed 3-9-07; 8:45 am]

BILLING CODE 3510-08-M